DEPARTMENT OF ENERGY

Federal Energy Regulatory Commission

Combined Notice of Filings

July 02, 2009.

Take notice that the Commission has received the following Natural Gas Pipeline Rate and Refund Report filings:

Docket Numbers: RP09-790-000.

Applicants: MIGC LLC.

Description: MIGC, LLC submits First Revised Sheet 50 et al., to its FERC Gas Tariff, Second Revised Volume 1 to be effective 8/1/09.

Filed Date: 06/29/2009.

Accession Number: 20090630-0006.

Comment Date: 5 p.m. Eastern Time on Monday, July 13, 2009.

Docket Numbers: RP09-791-000.

Applicants: MoGas Pipeline LLC.

Description: MoGas Pipeline, LLC submits its Section 4 rate case to change its base rates and institute a fuel charge.

Filed Date: 06/30/2009.

Accession Number: 20090701-0151.

Comment Date: 5 p.m. Eastern Time on Monday, July 13, 2009.

Docket Numbers: RP09-792-000.

Applicants: Columbia Gas Transmission, LLC.

Description: Columbia Gas Transmission, LLC submits Fifth Revised Sheet 25 et al., to its FERC Gas Tariff, Third Revised Volume 1, to be effective 8/1/09.

Filed Date: 06/30/2009.

Accession Number: 20090701-0058.

Comment Date: 5 p.m. Eastern Time on Monday, July 13, 2009.

Docket Numbers: RP09-793-000.

Applicants: Transcontinental Gas Pipe Line Company, LLC.

Description: Transcontinental Gas Pipe Line Company, LLC submits First Revised Sheet 370 et al., to its FERC Gas Tariff, Fourth Revised Volume 1 to be effective 7/30/09.

Filed Date: 06/30/2009.

Accession Number: 20090701-0059.

Comment Date: 5 p.m. Eastern Time on Monday, July 13, 2009.

Docket Numbers: RP09-794-000.

Applicants: Southern LNG Inc.

Description: Southern LNG, Inc submits First Revised Sheet 41 et al., to its FERC Gas Tariff, Original Volume 1.

Filed Date: 06/30/2009.

Accession Number: 20090701-0060.

Comment Date: 5 p.m. Eastern Time on Monday, July 13, 2009.

Docket Numbers: RP09-795-000.

Applicants: Gulf States Transmission Corporation.

Description: Gulf States Transmission Corporation submits First Revised Sheet 38 et al., effective 8/1/09.

Filed Date: 06/30/2009.

Accession Number: 20090701-0065.

Comment Date: 5 p.m. Eastern Time on Monday, July 13, 2009.

Docket Numbers: RP09-796-000.

Applicants: National Fuel Gas Supply Corporation.

Description: National Fuel Gas Supply Corp submits 129th Revised Sheet 9 to its FERC Gas Tariff, Fourth Revised Volume 1.

Filed Date: 06/30/2009.

Accession Number: 20090701-0064.

Comment Date: 5 p.m. Eastern Time on Monday, July 13, 2009.

Docket Numbers: RP09-797-000.

Applicants: Trunkline LNG Company, LLC.

Description: Trunkline LNG Company, LLC submits FERC Gas Tariff Revised Volume 1-A.

Filed Date: 06/30/2009.

Accession Number: 20090701-0063.

Comment Date: 5 p.m. Eastern Time on Monday, July 13, 2009.

Docket Numbers: RP09-798-000.

Applicants: Midcontinent Express Pipeline LLC.

Description: Midcontinent Express Pipeline, LLC submits First Revised Sheet 113 et al., to its FERC Gas Tariff, Original Volume 1 to be effective 8/1/09.

Filed Date: 06/30/2009.

Accession Number: 20090701-0067.

Comment Date: 5 p.m. Eastern Time on Monday, July 13, 2009.

Docket Numbers: RP09-799-000.

Applicants: Trunkline LNG Company, LLC.

Description: Trunkline LNG Company, LLC submits Second Revised Sheet 1 et al., to FERC Gas Tariff, Second Revised Volume 1-A, to be effective 8/1/09.

Filed Date: 06/30/2009.

Accession Number: 20090701-0161.

Comment Date: 5 p.m. Eastern Time on Monday, July 13, 2009.

Docket Numbers: RP09-800-000.

Applicants: WTG Hugoton, LP.

Description: WTG Hugoton, LP submits Second Revised Sheet 5 to reflect changes to the annual Fuel Retention Percentages applicable to transportation service provided under Rate Schedules FT and IT.

Filed Date: 07/01/2009.

Accession Number: 20090702-0086.

Comment Date: 5 p.m. Eastern Time on Monday, July 13, 2009.

Docket Numbers: RP09-801-000.

Applicants: Empire Pipeline, Inc.

Description: Empire Pipeline, Inc submits First Revised Sheet 18 et al. to FERC Gas Tariff, Original Volume 1 effective 8/1/09, to be effective 8/1/09.

Filed Date: 07/01/2009.

Accession Number: 20090702-0085.

Comment Date: 5 p.m. Eastern Time on Monday, July 13, 2009.

Docket Numbers: RP09-802-000.

Applicants: Texas Eastern Transmission LP.

Description: Texas Eastern Transmission, LP submits part of its FERC Gas Tariff, Seventh revised Volume 1 and First Revised Volume 2, et al., to be effective 8/1/09.

Filed Date: 07/01/2009.

Accession Number: 20090702-0084.

Comment Date: 5 p.m. Eastern Time on Monday, July 13, 2009.

Docket Numbers: RP09-803-000.

Applicants: Midcontinent Express Pipeline LLC.

Description: Midcontinent Express Pipeline LLC submits amendments to existing negotiated rate Transportation Rate Schedule FTS Agreements between MEP and the Shippers listed on Appendix A.

Filed Date: 07/01/2009.

Accession Number: 20090702-0083.

Comment Date: 5 p.m. Eastern Time on Monday, July 13, 2009.

Docket Numbers: RP09-805-000.

Applicants: Iroquois Gas Transmission System, L.P.

Description: Iroquois Gas Transmission System, LP submits Fourth Revised Sheet 142 et al., to FERC Gas Tariff, First Revised Volume 1.

Filed Date: 07/01/2009.

Accession Number: 20090702-0098.

Comment Date: 5 p.m. Eastern Time on Monday, July 13, 2009.

Docket Numbers: RP09-806-000.

Applicants: Dominion Transmission, Inc.

Description: Report of annual overrun/penalty revenue distribution of Dominion Transmission, Inc.

Filed Date: 07/01/2009.

Accession Number: 20090701-5264.

Comment Date: 5 p.m. Eastern Time on Monday, July 13, 2009.

Docket Numbers: RP09-807-000.

Applicants: Viking Gas Transmission Company.

Description: Viking Gas Transmission Company submits Seventh Revised Sheet 1 et al., to FERC Gas Tariff, First Revised Volume 1, to be effective 8/1/09.

Filed Date: 07/01/2009.

Accession Number: 20090702-0107.

Comment Date: 5 p.m. Eastern Time on Monday, July 13, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-16263 Filed 7-8-09; 8:45 am]

BILLING CODE 6717-01-P